DEPARTMENT OF COMMERCE

Census Bureau

Agency Information Collection Activities; Submission to the Office of Management and Budget (OMB) for Review and Approval; Comment Request; Survey of State Government Research and Development

AGENCY: Census Bureau, Department of Commerce.

ACTION: Notice of information collection, request for comment.

SUMMARY: The Department of Commerce, in accordance with the Paperwork Reduction Act (PRA) of 1995, invites the general public and other Federal agencies to comment on proposed, and continuing information collections, which helps us assess the impact of our information collection requirements and minimize the public's reporting burden. The purpose of this notice is to allow for 60 days of public comment on the proposed extension of the Survey of State Government Research and Development, prior to the submission of the information collection request (ICR) to OMB for approval.

DATES: To ensure consideration, comments regarding this proposed information collection must be received on or before January 20, 2026.

ADDRESSES: Interested persons are invited to submit written comments by email to Thomas.J.Smith@census.gov. Please reference Survey of State Government Research and Development in the subject line of your comments. You may also submit comments, identified by Docket Number USBC-2025-0170, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or specific questions related to collection activities should be directed to Michael Flaherty, Chief Research, Development & Innovation Surveys Branch, 301-763-7699, Michael.J.Flaherty@census.gov.

SUPPLEMENTARY INFORMATION:

I. Abstract

The Census Bureau conducts the Survey of State Government Research and Development (SGRD) to measure research and development performed and funded by state government agencies in the United States. The Census Bureau conducts the survey on behalf of the National Center for Science and Engineering Statistics (NCSES) within the U.S. National Science Foundation.

The National Science Foundation Act of 1950, as amended, includes a statutory charge to “provide a central clearinghouse for the collection, interpretation, and analysis of data on scientific and engineering resources and to provide a source of information for policy formulation by other agencies in the Federal Government.” This mandate was further codified in the America COMPETES Reauthorization Act of 2010 § 505, which requires NCSES to “collect, acquire, analyze, report, and disseminate . . . statistical data on (A) research and development trends. . .” Under the aegis of these legislative mandates, NCSES has sponsored surveys of research and development (R&D) since 1951, including the SGRD since 2006. The Census Bureau's authorization to undertake this work is found at 13 U.S.C. 8(b) which provides that the Census Bureau “may make special statistical compilations and surveys for departments, agencies, and establishments of the Federal government, the government of the District of Columbia, the government of any possession or area (including political subdivisions thereof) . . . State or local agencies, or other public and private persons and agencies.”

The SGRD is the only comprehensive source of state government research and development expenditure data collected on a nationwide scale using uniform definitions, concepts, and procedures. The collection covers the expenditures of all agencies in the fifty state governments, the District of Columbia, and Puerto Rico that perform or fund R&D. The NCSES coordinates with the Census Bureau for the data collection. The NCSES uses this collection to satisfy, in part, its need to collect research and development expenditures data.

Fiscal data provided by respondents aid data users in measuring the effectiveness of R&D resource allocation. The products of this data collection make it possible for data users to obtain information on such things as R&D expenditures according to source of funding (e.g., federal funds or state funds), by performer of the work (e.g., intramural and extramural to state agencies), by function (e.g., agriculture, energy, health, transportation, etc.), by type of work (e.g., basic research, applied research, or experimental development) for intramural performance of R&D, and by R&D plant (e.g., construction projects). Final results produced by NCSES contain state and national estimates useful to a variety of data users interested in R&D performance including: The National Science Board; the Office of Management and Budget; the Office of Science and Technology Policy and other science policy makers; institutional researchers; and private organizations. SGRD and all NCSES R&D statistics are used by the Bureau of Economic Analysis (BEA) to fully and accurately reflect the impact of R&D spending on the U.S. economy. BEA uses NCSES R&D data to make estimates of R&D investment in Gross Domestic products and in the National, Regional, Industry, and International Economic Accounts.

The survey announcements and forms used in the SGRD are:

Survey Announcement. An introductory email is sent to Chief of Staff of Governor's Office to announce the survey collection and to solicit assignment of a State Coordinator. The State Coordinator's Announcement is sent via email at the beginning of each survey period to solicit assistance in identifying state agencies which may perform or fund R&D activities.

Form SRD-1. This form contains item descriptions and definitions of the research and development items collected by the Census Bureau on behalf of the NCSES. All states supply their data via email or phone.

II. Method of Collection

The Census Bureau emails the Chief of Staff for the 50 state governors, the mayor of DC, and the governor of Puerto Rico requesting that they appoint a state coordinator for the survey. The Census Bureau then emails the state coordinators a spreadsheet asking them to identify state agencies that may have the capacity to perform or fund R&D. The Census Bureau subsequently emails the survey form to each state agency identified by the respective state coordinators. The form contains embedded data checks and auto-summing functionality. Agencies are asked to complete and email back the form. Alternatively, agencies are able to report to the Census Bureau by telephone.

III. Data

OMB Control Number: 0607-0933.

Form Number(s): SRD-1.

Type of Review: Regular submission, Request for an Extension, without Change, of a Currently Approved Collection.

Affected Public: State government agencies.

Estimated Number of Respondents: 51 governors, 1 mayor, 52 state coordinators, and approximately 700 state government agencies.

Estimated Time per Response: 5 minutes for each governor, 1 hour for each state coordinator, and 2 hours for each state agency surveyed.

Estimated Total Annual Burden Hours: 1,456.

Estimated Total Annual Cost to Public: $0 (This is not the cost of respondents' time, but the indirect costs respondents may incur for such things as purchases of specialized software or hardware needed to report, or expenditures for accounting or records maintenance services required specifically by the collection.)

Respondent's Obligation: Voluntary.

Legal Authority: National Science Foundation Act of 1950 as amended and the America COMPETES Reauthorization Act of 2010, Title 42 U.S.C. 1861-76; Title 13, U.S.C. 8(b).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include, or summarize, each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-20555 Filed 11-20-25; 8:45 am]

BILLING CODE 3510-07-P